SOCIAL SECURITY ADMINISTRATION

[Docket No. SSA-2007-0016]

Supplemental Security Income, Youth Transition Demonstration

AGENCY: Social Security Administration (SSA).

ACTION: Notice of Extension and Modification of the Youth Transition Demonstration.

SUMMARY: On October 7, 2003, the Commissioner of Social Security published a Notice in the Federal Register (68 FR 57950) announcing the beginning of a demonstration project designed primarily to test the effectiveness of altering certain Supplemental Security Income (SSI) and other program rules as an incentive to encourage individuals with disabilities or blindness to work or increase their work activity and earnings. In order to complete a more thorough evaluation of this project, we are extending the duration of the altered program rules in three of the seven original project locations and adding three new project locations that will also offer the alternative program rules.

The Commissioner of Social Security is publishing this notice in accordance with 20 CFR 416.250(e) and conducting the project pursuant to authority in sections 234 and 1110 of the Social Security Act.

Background

In October 2003, at the start of the Youth Transition Demonstration (we have slightly altered the project name from the original Notice), we announced the award of seven cooperative agreements in six states for the development and implementation of demonstration programs intended to help youth with disabilities maximize their economic self-sufficiency as they transition from school to work. These seven programs (one each in California, Colorado, Iowa, Maryland, and Mississippi, and two in New York) worked with transition-aged youth (mostly between the ages of 14 and 25) who either receive SSI, Social Security Disability Insurance (SSDI), or Childhood Disability Benefits (CDB) or are at risk of receiving such benefits, including those who have a progressive disability, who have a prognosis for decreased functioning, or who have existing disabling conditions prior to age 18 that would render them eligible except for deemed parental income. The projects were designed to help Federal, State, and local agencies develop and implement sustainable improvements in the delivery of transition services and supports. They also tested ways to remove other barriers to employment and economic self-sufficiency. The October 2003 Notice stated that SSA would fund the projects on a yearly basis for up to five years, through September 2008, subject to the continued availability of funds and satisfactory progress.

Currently, five of the original seven YTD projects remain fully operational. Two ended because of difficulty they had reaching the goals stated in their cooperative agreements. Two more will end in September 2008, when their original cooperative agreements expire, because they have not agreed to the type of methodology, random assignment (RA), that we are now requiring in the demonstration. The three remaining original projects (two in New York and one in Colorado) will continue with the YTD beyond 2008. However, all seven of the original projects will be included in our overall evaluation, specifically the process and implementation portion of the analysis.

In the fall of 2006, in an effort to identify three additional programs for the YTD, we awarded funding to five candidate programs. In the five candidate programs, individuals were provided with additional services, but no SSI program rules were altered. Ultimately, we chose the three programs located in Florida, Maryland and West Virginia to take part in the YTD beginning in 2008. Each of the newly selected programs will receive funding for up to four years, ending in 2012, and will participate in all aspects of the YTD. Going forward, therefore, we will conduct the YTD with six programs: the three remaining original programs (one in Colorado and two in New York) and three new ones (Florida, Maryland and West Virginia).

Evaluation Status

As noted above, three of the seven original programs and three new programs will be participating in the extended YTD and using RA methodology. Once the YTD is explained to potential participants and written consent is obtained stating that they want to participate in the study, the youth are placed either into a control group or a treatment group through a random process. Youth placed in the treatment group receive the enhanced YTD services and are subject to the alternative program rules, while youth in the control group receive only those rules and services that would have been available in the absence of the YTD project. Each treatment and control group will include at least 400 participants. The three original programs are already in the process of enrollment using RA and are scheduled to complete enrollment no later than January 2009. The three new programs are scheduled to begin enrollment using RA in spring 2008 and to end enrollment in spring 2010. We will fund the six programs using RA on a yearly basis for up to four years, ending in 2012, subject to the continued availability of funding.

The Extended YTD Evaluation Includes Four Data Collection and Research Activities

1. The collection of administrative data and survey data on treatment and control group members at the time of RA and for four years after RA;

2. A study of the implementation of all the YTD projects;

3. A study of the impacts of the projects on youth outcomes, such as employment and earnings, receipt of disability benefits, and educational attainment;

4. An analysis of the benefits and costs of the YTD projects.

The YTD will end no later than September 30, 2013. An extended evaluation is being conducted over eight years. The evaluation began in September 2005 and will end in September 2013, with an additional year to prepare reports and findings. The first year of the evaluation was devoted to developing program models, providing technical assistance to existing YTD programs, and visiting locations to choose additional sites for the YTD. During the second year, the prospective locations operated pilot projects so that we could choose three new programs to fully participate in the YTD. We, and the evaluation contractor, will provide technical assistance to the project locations and will monitor them through repeated visits, as well as through the evaluation's web-based case-management system. The evaluation contractor will collect and analyze administrative and survey data. Ultimately, the contractor will prepare reports on the evaluation findings.

Dates

Because participants enroll in the programs at different times and at different ages, the alternative rules could be available to participants for lengths of time that vary by up to two years. To avoid this variation and thus to strengthen the YTD evaluation, the alternative program rules will apply as follows:

• Individuals participating in the YTD at the two original programs that are still operational, but are not continuing with the YTD after their original cooperative agreements end (California and Mississippi) will continue to receive alternative program rules as provided for in 68 FR 57950 until September 2008.

• For participants randomly assigned to a treatment group in one of the six YTD programs using RA, the alternative program rules will apply for a fixed period of four years or until the participant attains age 22, whichever occurs later. (In no instance will the alternative rules apply after September 30, 2013.)

FOR FURTHER INFORMATION CONTACT: Leola Brooks, Social Security Administration, Office of Program Development and Research, 400 Virginia Avenue, SW., Suite 700, Washington, DC 20024; Phone (202) 358-6294 or through e-mail to leola.brooks@ssa.gov.

SUPPLEMENTARY INFORMATION:

Alternative SSI Program Rules That Apply to Participants in the YTD

The alternative program rules that we are testing under the demonstration project consist of the following five elements. Element 1 applies to SSI, SSDI and CDB beneficiaries. Elements 2 through 5 apply to SSI-only recipients.

1. Despite the finding of a continuing disability review conducted in accordance with section 221(i) or section 1614(a)(3)(H) of the Social Security Act (the Act) or an age-18 medical redetermination conducted in accordance with section 1614(a)(3)(I) of the Act that an individual is no longer eligible for benefits, SSA will continue paying benefits for as long as the individual continues to be a YTD participant.

2. The student earned-income exclusion (section 1612(b)(1) of the Act), which normally applies only to students who are age 21 or younger, will apply to all participants who meet school attendance requirements, without regard to their age.

3. The general earned-income exclusion (section 1612(b)(4) of the Act) normally permits the exclusion of $65 plus half of what an individual earns in excess of $65. For the YTD, SSA will exclude the first $65 plus three-fourths of any additional earnings.

4. SSA will extend the SSI program's treatment of Federally supported Individual Development Accounts (IDAs) (section 404(h) of the Act) to IDAs that do not involve Federal funds.

An IDA is a trust-like savings account. Except for certain emergencies, funds in a Federally-supported IDA can be used only for going to college, buying a first home, or starting a business. The individual makes deposits from his or her earned income. The individual's contributions are matched, at rates that can vary from 1:1 to 8:1, usually depending on the availability of funding.

Social Security excludes Federally-supported IDAs when it determines whether someone's resources exceed the SSI limit. It also excludes matching contributions when it determines countable income. Further, Social Security deducts the beneficiary's own deposits from countable income, so that SSI benefits replace the amount deposited. As a result, an SSI beneficiary does not have to divert scarce resources from living expenses in order to save.

Non-federally-supported IDA or “IDA-like” programs have emerged in a number of States. These programs usually permit an individual to save for one or more purposes in addition to the three mentioned above, such as transportation and/or assistive technology. The exclusions that apply to Federally-supported IDAs normally do not extend to these programs.

5. Ordinarily, a plan for achieving self-support (PASS) must specify an employment goal (section 1633(d) of the Act), which refers to getting a particular kind of job or starting a particular business. For the YTD, SSA will approve an otherwise satisfactory PASS that has either career exploration or postsecondary education as its goal. If the goal is postsecondary education, the PASS must provide for developing a work goal at least one year prior to completion of the degree requirements.

Income that an individual uses for PASS expenses does not count when SSA determines SSI eligibility and payment amount. Assets that an individual uses for PASS expenses do not count as resources when SSA determines SSI eligibility.

Extended Impact Evaluation Locations

Colorado

Title: Colorado Youth Work Incentive Network of Supports (WINS).

Lead Organization: University of Colorado Health Sciences Center.

Summary: Colorado's Youth WINS provides benefits counseling, consumer navigation, career counseling, and individualized job development and placement. Services are provided by a three-person team housed in local workforce centers.

Project Sites: Boulder, Larimer, El Paso/Teller, Pikes Peak and Pueblo Counties.

New York

Title: Transition WORKS.

Lead Organization: Erie 1 Board of Cooperative Educational Services (BOCES).

Summary: New York's Transition WORKS emphasizes self-advocacy and person-centered planning for youth and families located in Erie County. Transition Works provides job placement, work experience, intensive case management, transition planning, career exploration, and benefits counseling.

Project Site: Erie County.

Title: CUNY's Youth Transition Demonstration Project.

Lead Organization: City University of New York (CUNY).

Summary: New York's CUNY Youth Transition Demonstration Project provides person-centered planning, benefits counseling, vocational skills development, recreational activities, self-determination sessions, and parent-peer mentoring in Saturday group workshops located on CUNY campuses, along with the opportunity to participate in summer work experiences.

Project Site: Bronx County.

Florida

Title: Broadened Horizons Brighter Futures Program.

Lead Organization: Abilities, Inc.

Summary: Program services include paid work experience and customized job development and placement, self determination curriculum, and a focus on asset building and individual development accounts.

Project Site: Miami-Dade County.

Maryland

Title: Career Transition Program (CTP).

Lead Organization: St. Luke's House.

Summary: CTP will forge links with school systems and other systems to support employment and effective mental health treatment. The program targets youth with emotional disabilities, and includes a population of SSI and those at risk of becoming SSI recipients.

Project Site: Montgomery County, MD.

West Virginia

Title: West Virginia Youth Works—Youth Transition Project.

Lead Organization: Human Resources Development Foundation (HRDF).

Summary: In addition to paid and unpaid work experiences, youth will be provided benefits counseling, mentoring, counseling and guidance, case management, and service links. HRDF will partner with the West Virginia University Center for Excellence in Disabilities (WVU CED).

Project Sites: Barbour, Harrison, Jackson, Lewis, Marion, Monongalia, Preston, Taylor, Upshur, Wood, Cabell, Fayette, Kanawha, Mason, Mercer, Putnam, Raleigh, and Wayne Counties.

Dated: March 5, 2008.
Michael J. Astrue,
Commissioner of Social Security.

[FR Doc. E8-5036 Filed 3-12-08; 8:45 am]

BILLING CODE 4191-02-P